FEDERAL ELECTION COMMISSION

Sunshine Act Meetings

FEDERAL REGISTER CITATION NOTICE OF PREVIOUS ANNOUNCEMENT: 88 FR 863.

PREVIOUSLY ANNOUNCED TIME AND DATE OF THE MEETING: Tuesday, January 10, 2023 at 10:00 a.m. and its continuation at the conclusion of the open meeting on January 12, 2023.

CHANGES IN THE MEETING: The meeting began at 10:30 a.m. on January 10, 2023.

The meeting also discussed:

Matters relating to internal personnel decisions, or internal rules and practices.

* * * * *

FOR MORE INFORMATION CONTACT: Judith Ingram, Press Officer, Telephone: (202) 694-1220.

(Authority: Government in the Sunshine Act, 5 U.S.C. 552b)

Vicktoria J. Allen,
Acting Deputy Secretary of the Commission.

[FR Doc. 2023-00905 Filed 1-13-23; 11:15 am]

BILLING CODE 6715-01-P